DEPARTMENT OF ENERGY

Federal Energy Regulatory Commission

[Docket No. EC02-17-000, et al.]

Mill Run Windpower LLC, et al.; Electric Rate and Corporate Regulation Filings

November 7, 2001.

Take notice that the following filings have been made with the Commission:

1. Mill Run Windpower LLC and EWO Wind, LLC

[Docket No. EC02-17-000]

Take notice that on November 2, 2001, Mill Run Windpower LLC (Mill Run) and EWO Wind, LLC (EWO and, collectively with Mill Run, Applicants) filed with the Federal Energy Regulatory Commission (Commission) a joint application pursuant to section 203 of the Federal Power Act for authorization of a disposition of jurisdictional facilities whereby Applicants request approval of the transfer of between 98% and 100% of the membership interests in Mill Run from Atlantic Renewable Energy Corporation and Zilkha Renewable Energy, LLC to EWO.

Mill Run is engaged exclusively in the business of owning and operating a 15 MW wind-powered electric generating facility located in Springfield and Stuart Townships, Fayette County, Pennsylvania (the Facility), and selling its capacity and energy at wholesale to Exelon Power Generation LLC. The Applicants request privileged treatment by the Commission of the detailed Term Sheet between Zilkha Renewable Energy, LLC and Entergy Power Generation Corp. that governs the proposed transfer.

Comment date: November 23, 2001, in accordance with Standard Paragraph E at the end of this notice.

2. TCC Attala OL LLC

[Docket No. EG02-19-000]

Take notice that on November 2, 2001, TCC Attala OL LLC (TCC Attala OL), a Delaware limited liability company with its principal place of business at Rodney Square North, 1100 North Market Street, Wilmington, Delaware 18990-0001, filed with the Federal Energy Regulatory Commission (Commission), an application for determination of exempt wholesale generator status pursuant to part 365 of the Commission's regulations.

TCC Attala OL proposes to purchase and hold an undivided interest, as owner lessor, in a natural gas-fired, combined cycle power plant of approximately 526 MW capacity in Attala County, Mississippi, for the benefit of TCC Attala OP LLC as owner participant. TCC Attala OL proposes to satisfy the requirement of selling energy at wholesale by leasing an undivided interest in the facility to Attala Generating Company, LLC, which in turn will sell the entire output of the facility exclusively at wholesale.

Comment date: November 28, 2001, in accordance with Standard Paragraph E at the end of this notice. The Commission will limit its consideration of comments to those that concern the adequacy or accuracy of the application.

3. VCC Attala OL LLC

[Docket No. EG02-20-000]

Take notice that on November 2, 2001, VCC Attala OL LLC (VCC Attala OL), a Delaware limited liability company with its principal place of business at Rodney Square North, 1100 North Market Street, Wilmington, Delaware 18990-0001, filed with the Federal Energy Regulatory Commission (Commission), an application for determination of exempt wholesale generator status pursuant to part 365 of the Commission's regulations.

VCC Attala OL proposes to purchase and hold an undivided interest, as owner lessor, in a natural gas-fired, combined cycle power plant of approximately 526 MW capacity in Attala County, Mississippi, for the benefit of VCC Attala OP LLC as owner participant. VCC Attala OL proposes to satisfy the requirement of selling energy at wholesale by leasing an undivided interest in the facility to Attala Generating Company, LLC, which in turn will sell the entire output of the facility exclusively at wholesale.

Comment date: November 28, 2001, in accordance with Standard Paragraph E at the end of this notice. The Commission will limit its consideration of comments to those that concern the adequacy or accuracy of the application.

4. KeySpan-Glenwood Energy Center LLC

[Docket No. EG02-21-000]

Take notice that on November 5, 2001, KeySpan-Glenwood Energy Center LLC(the Applicant) filed an application with the Federal Energy Regulatory Commission (the Commission) for determination of exempt wholesale generator status pursuant to section 32 of the Public Utility Holding Company Act of 1935, as amended, and part 365 of the Commission's regulations.

Applicant is a Delaware limited liability company that will be engaged directly and exclusively in the business of owning and operating all or part of one or more eligible facilities to be located on Long Island, New York. The eligible facilities will consist of an approximately 79 MW electric generation plant and related equipment and interconnection facilities. The output of the eligible facilities will be sold at wholesale.

Comment date: November 28, 2001, in accordance with Standard Paragraph E at the end of this notice. The Commission will limit its consideration of comments to those that concern the adequacy or accuracy of the application.

5. KeySpan-Port Jefferson Energy Center LLC

[Docket No. EG02-22-000]

Take notice that on November 5, 2001, KeySpan-Port Jefferson Energy Center LLC (the Applicant) filed an application with the Federal Energy Regulatory Commission (the Commission) for determination of exempt wholesale generator status pursuant to section 32 of the Public Utility Holding Company Act of 1935, as amended, and part 365 of the Commission's regulations.

Applicant is a Delaware limited liability company that will be engaged directly and exclusively in the business of owning and operating all or part of one or more eligible facilities to be located on Long Island, New York. The eligible facilities will consist of an approximately 79 MW electric generation plant and related equipment and interconnection facilities. The output of the eligible facilities will be sold at wholesale.

Comment date: November 28, 2001, in accordance with Standard Paragraph E at the end of this notice. The Commission will limit its consideration of comments to those that concern the adequacy or accuracy of the application.

6. American Ref-Fuel Company of Delaware Valley, L.P.

[Docket No. EG02-23-000]

Take notice that on November 1, 2001, American Ref-Fuel Company of Delaware Valley, L.P. (ARC Delaware Valley), a Delaware limited partnership, with its principal place of business at c/o American Ref-Fuel Company, Timberway One—Suite 200, 15990 North Barker's Landing, Houston, Texas 77079, filed with the Federal Energy Regulatory Commission (Commission) an application for determination of exempt wholesale generator (EWG) status pursuant to part 365 of the Commission's regulations.

ARC Delaware Valley states that it will be engaged directly and exclusively in the business of owning or operating, or both owning and operating, a municipal solid waste-fired small power production facility located in Chester, Massachusetts (Facility). ARC Delaware Valley currently is an EWG, but seeks a redetermination that is an EWG if it modifies the Facility to produce capacity above 79.5 MW. ARC Delaware Valley will sell the capacity exceeding 79.5 MW exclusively at wholesale. A copy of the filing was served upon the Securities and Exchange Commission, the New Jersey Board of Public Utilities, and the Pennsylvania Public Utility Commission.

Comment date: November 28, 2001, in accordance with Standard Paragraph E at the end of this notice. The Commission will limit its consideration of comments to those that concern the adequacy or accuracy of the application.

7. El Paso Rio Claro Ltda.

[Docket No. EG02-24-000]

Take notice that on November 6, 2001, El Paso Rio Claro Ltda. filed with the Federal Energy Regulatory Commission (Commission), an application for determination of exempt wholesale generator status pursuant to part 365 of the Commission's regulations.

Applicant, a Brazilian limited liability company, owns power generating facilities in Brazil. These facilities consist of an 875 MW simple cycle gas fired electric generating facility and facilities necessary to make wholesale sales of electricity in Brazil.

Comment date: November 28, 2001, in accordance with Standard Paragraph E at the end of this notice. The Commission will limit its consideration of comments to those that concern the adequacy or accuracy of the application.

8. ISO New England Inc.

[Docket No. ES02-7-000]

Take notice that on November 1, 2001, ISO New England Inc. (ISO New England) submitted an application pursuant to section 204 of the Federal Power Act seeking authorization to make additional long-term borrowing in the amount not to exceed $40,000,000 under an existing term credit facility.

ISO New England also requests a waiver of the Commission's competitive bidding and negotiated placement requirements at 18 CFR 34.2.

Comment date: November 27, 2001, in accordance with Standard Paragraph E at the end of this notice.

9. New England Power Pool

[Docket No. ER02-185-001]

Take notice that on November 5, 2001, the New England Power Pool (NEPOOL) Participants Committee tendered for filing with the Federal Energy Regulatory Commission (Commission) a Substitute 5th Revised Sheet No. 506 of New England Power Pool FERC Electric Rate Schedule No. 6, and a blackline showing the correction. The amendment corrects certain text to reflect the formulaic changes that NEPOOL has proposed in this docket which modify the methodology used to calculate whether a generator is operating at its desired dispatch point.

The NEPOOL Participants Committee states that copies of these materials were sent to the New England state governors and regulatory commissions and the Participants in the New England Power Pool.

Comment date: November 26, 2001, in accordance with Standard Paragraph E at the end of this notice.

10. Somerset Windpower LLC

[Docket No. ER02-258-000]

Take notice that on November 2, 2001, Somerset Windpower LLC (Somerset), tendered for filing with the Federal Energy Regulatory Commission (Commission) an application to amend its existing authorization to sell capacity and energy at market-based rates pursuant to section 205 of the Federal Power Act.

Comment date: November 23, 2001, in accordance with Standard Paragraph E at the end of this notice.

11. Attala Energy Company, LLC

[Docket No. ER02-40-001]

Take notice that on November 5, 2001, Attala Energy Company, LLC (Attala) filed with the Federal Energy Regulatory Commission (Commission) a supplement to its October 4, 2001 Application for Blanket Authorizations, Certain Waivers, Order Approving Rate Schedule and For Expedited Action.

Comment date: November 26, 2001, in accordance with Standard Paragraph E at the end of this notice.

12. Citizens Energy Corporation

[Docket No. ER01-2814-001]

Take notice that on November 5, 2001, in compliance with the October 5, 2001 letter order issued by the Federal Energy Regulatory Commission (Commission) in the above-referenced proceeding, Citizens Energy Corporation (Citizens) submitted a supplement to its August 9, 2001 request for market-based rate authority.

Comment date: November 26, 2001, in accordance with Standard Paragraph E at the end of this notice.

13. J. Aron & Company

[Docket No. ER02-237-000]

Take notice that on November 2, 2001, J. Aron & Company (Seller) petitioned the Federal Energy Regulatory Commission (Commission) for an order: (1) Accepting Seller's proposed FERC Electric Rate Schedule; (2) granting waiver of certain requirements under Subparts B and C of part 35 of the regulations; (3) granting the blanket approvals normally accorded sellers permitted to sell at market-based rates; and (4) granting waiver of the 60-day notice period.

Comment date: November 23, 2001, in accordance with Standard Paragraph E at the end of this notice.

14. California Independent System Operator Corporation

[Docket No. ER02-250-000]

Take notice that on November 2, 2001, the California Independent System Operator Corporation (ISO) tendered for filing with the Federal Energy Regulatory Commission (Commission) its 2002 Grid Management Charge. The purpose of the Grid Management Charge is to allow the ISO to recover its administrative and operating costs. The ISO requests that the unbundled Grid Management Charge be made effective as of January 1, 2002.

The ISO states that this filing has been served on the Public Utilities Commission of California, the California Energy Commission, the California Electricity Oversight Board, and upon all parties with effective Scheduling Coordinator Service Agreements under the ISO Tariff.

Comment date: November 23, 2001, in accordance with Standard Paragraph E at the end of this notice.

15. Southwestern Electric Power Company

[Docket No. ER02-251-000]

Take notice that on November 2, 2001, Southwestern Electric Power Company (SWEPCO) filed with the Federal Energy Regulatory Commission (Commission) a Restated and Amended Power Supply Agreement (Restated PSA) between SWEPCO and the City of Hope, Arkansas (Hope). The Restated PSA supersedes, in its entirety, the 1982 Power Supply Agreement, as amended, between SWEPCO and Hope.

SWEPCO seeks an effective date of June 15, 2000 for the Restated PSA and, accordingly, seeks waiver of the Commission's notice requirements. Copies of the filing have been served on Hope and on the Arkansas Public Service Commission.

Comment date: November 23, 2001, in accordance with Standard Paragraph E at the end of this notice.

16. New England Power Company

[Docket No.ER02-252-000]

Take notice that on November 2, 2001, New England Power Company (NEP) submitted for filing with the Federal Energy Regulatory Commission (Commission) Original Service Agreement No. 207 for Firm Local Generation Delivery Service under NEP's Open Access Transmission Tariff, FERC Electric Tariff, Second Revised Volume No. 9 between NEP and Pawtucket Power Associates, Limited Partnership (Pawtucket).

NEP states that a copy of this filing has been served upon Pawtucket and regulators in the State of Rhode Island.

Comment date: November 23, 2001, in accordance with Standard Paragraph E at the end of this notice.

17. Nevada Power Company

[Docket No. ER02-254-000]

Take notice that on November 2, 2001, Nevada Power Company (Nevada Power) filed with the Federal Energy Regulatory Commission (Commission) pursuant to Section 205 of the Federal Power Act, an executed Interconnection Agreement between Nevada Power and Duke Washoe LLC (Duke). This agreement governs the terms and conditions of the interconnection to Nevada Power's transmission system of Duke's 540 MW electric generation facility located in Washoe County, Nevada.

Comment date: November 23, 2001, in accordance with Standard Paragraph E at the end of this notice.

18. Puget Sound Energy, Inc.

[Docket No. ER02-255-000]

Take notice that on November 2, 2001, Puget Sound Energy, Inc., a public utility corporation organized under the laws of the State of Washington (PSE), file with the Federal Energy Regulatory Commission (Commission), a Notice of Cancellation of Service Agreement for Firm and Non-Firm Point-To-Point transmission Service under FERC Electric Tariff Original Volume No. 7 Open Access Transmission Tariff (Tariff) with the Merchant Energy Group of the Americas, Inc. (MEGA), as Transmission Customer (Service Agreement Nos. 78 and 79 under the Tariff).

PSE states that a copy of the filing was served upon MEGA.

Comment date: November 23, 2001, in accordance with Standard Paragraph E at the end of this notice.

19. Mill Run Windpower, LLC

[Docket No. ER02-256-000]

Take notice that on November 2, 2001, Mill Run Windpower, LLC (Mill Run), tendered for filing with the Federal Energy Regulatory Commission (Commission) an application to amend its existing authorization to sell capacity and energy at market-based rates pursuant to section 205 of the Federal Power Act.

Comment date: November 23, 2001, in accordance with Standard Paragraph E at the end of this notice.

20. Northern Iowa Windpower, LLC

[Docket No. ER02-257-000]

Take notice that on November 2, 2001, Northern Iowa Windpower, LLC (NIW), tendered for filing with the Federal Energy Regulatory Commission (Commission) an application to amend its existing authorization to sell capacity and energy at market-based rates pursuant to section 205 of the Federal Power Act.

Comment date: November 23, 2001, in accordance with Standard Paragraph E at the end of this notice.

21. WPS Resources Operating Companies

[Docket No. ER02-260-000]

Take notice that on November 5, 2001, WPS Resources Operating Companies (WPS Companies), tendered for filing with the Federal Energy Regulatory Commission (Commission) on behalf of Wisconsin Public Service Corporation (WPSC) and Upper Peninsula Power Company an executed service agreement with their affiliate, Combined Locks Energy Center, LLC (CLEC) pursuant to section 205 of the Federal Power Act. Under this service agreement, WPSC will provide CLEC with Generation Delivery Imbalance Service and Dynamic Scheduling Service pursuant to the WPS Companies' Open Access Transmission Tariff, FERC Electric Tariff, First Revised Volume No. 1 (WPS Tariff). The WPS Companies request an effective date of November 1, 2001 for this service agreement.

Copies of the filing were served upon CLEC and the Public Service Commission of Wisconsin.

Comment date: November 26, 2001, in accordance with Standard Paragraph E at the end of this notice.

22. PECO Energy Company

[Docket No. ER02-261-000]

Take notice that on November 5, 2001, PECO Energy Company (PECO) submitted for filing with the Federal Energy Regulatory Commission (Commission), pursuant to Order No. 614, FERC Stats. & regs., Regulations Preambles 61,096 (2000), First Revised Sheet Nos. 45-50 superseding Original Sheet Nos. 45-50 to the Construction Agreement between PECO and Liberty Electric Power, LLC (Liberty), designated by the Commission as PECO Rate Schedule FERC No. 140.

Comment date: November 26, 2001, in accordance with Standard Paragraph E at the end of this notice.

23. Allegheny Energy Service Corporation, on behalf of Monongahela Power Company, The Potomac Edison Company, and West Penn Power Company (Allegheny Power)

[Docket No. ER02-262-000]

Take notice that on November 5, 2001, Allegheny Energy Service Corporation on behalf of Monongahela Power Company, The Potomac Edison Company, and West Penn Power Company (Allegheny Power), filed with the Federal Energy Regulatory Commission (Commission) Service Agreement No. 363 (Agreement) to add the Borough of Chambersburg to Allegheny Power's Open Access Transmission Tariff which has been submitted for filing by the Federal Energy Regulatory Commission in Docket No. OA96-18-000. Copies of the filing have been provided to the Pennsylvania Public Utility Commission and all parties of record.

Allegheny Power requests a waiver of notice requirements and asks the Commission to honor the proposed effective date of December 1, 2001 as specified in the agreement negotiated by the parties.

Comment date: November 26, 2001, in accordance with Standard Paragraph E at the end of this notice.

24. Intercom Energy, Inc.

[Docket No. ER02-267-000]

Take notice that on November 5, 2001, Intercom Energy, Inc. (Intercom) tendered for filing with the Federal Energy Regulatory Commission (Commission) an application for an order accepting its FERC Electric Rate Schedule No. 1, granting certain blanket approvals, including the authority to sell electricity at market-base rates, and waiving certain regulations of the Commission. Intercom requested expedited Commission consideration. Intercom requested that its Rate Schedule No. 1 become effective upon the earlier of the date the Commission authorizes market-based rate authority, or 30-days from the date of this filing. Intercom also filed its FERC Electric Rate Schedule No. 1.

Comment date: November 26, 2001, in accordance with Standard Paragraph E at the end of this notice.

25. Progress Ventures, Inc., Progress Genco Ventures, LLC

[Docket No. ER01-2928-001 and Docket No. ER01-2929-001]

Take notice that on November 2, 2001, Progress Ventures, Inc. and Progress Genco Ventures, LLC tendered for filing with the Federal Energy Regulatory Commission (Commission) an amendment to their applications for authorization to sell power at market-based rates in the above-referenced dockets.

Comment date: November 23, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-28462 Filed 11-13-01; 8:45 am]

BILLING CODE 6717-01-P